DEPARTMENT OF HOUSING AND URBAN DEVELOPMENT

[Docket No. FR-5916-N-23]

60-Day Notice of Proposed Information Collection: Public Housing Contracting With Resident-Owned Business—Application Requirements

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 21, 2017.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Relay Service at (800) 877-8339. Copies of available documents submitted to OMB may be obtained from Ms. Mussington.

SUPPLEMENTARY INFORMATION: This notice informs the public that HUD is seeking approval from OMB for the information collection described in Section A.

A. Overview of Information Collection

Title of Information Collection: Public Housing Contracting with Resident-Owned Businesses—Application Requirements.

OMB Approval Number: 2577-0161.

Type of Request: Reinstatement, with change, of a previously approved collection.

Form Numbers: N/A.

Description of the Need for the Information and Its Proposed Use: PHAs that enter into contracts with resident-owned businesses must comply with the requirements/procedures set forth in 24 CFR 963.10, 24 CFR 963.12, 24 CFR 85.36(h), 24 CFR 85.36(i) and other such contract terms that may be applicable to the procurement under the Department's regulations. These requirements include:

• Certified copies of any State, county, or municipal licenses that may be required of the business to engage in the type of business activity for which it was formed. Where applicable, the PHA must obtain a certified copy of its corporate charter or other organizational document that verifies that the business was properly formed in accordance with State law;

• Certification that shows the business is owned by residents, disclosure documents that indicate all owners of the business and each owner's percentage of the business along with sufficient evidence sufficient that demonstrates to the satisfaction of the PHA that the business has the ability to perform successfully under the terms and conditions of the proposed contract;

• Certification as to the number of contracts awarded, and the dollar amount of each contract award received, under the alternative procurement process; and

• Contract award documents, proof of bonding documents, independent cost estimates and comparable price analyses.

Members of Affected Public: Public Housing Agencies and Applicable Resident Entrepreneurs.

Total Estimated Burdens:

Information collection | Number of respondents | Frequency of response | Responses per annum | Burden hour per response | Annual burden hours | Hourly cost per response | Annual cost
2577-0161 | 81 | 1 | 81 | 24 | 1,944 | $29.00 | $56,376

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 14, 2016.
Merrie Nichols-Dixon,
Deputy Director, Office of Policy, Programs and Legislative Initiatives.

[FR Doc. 2016-30742 Filed 12-20-16; 8:45 am]

BILLING CODE 4210-67-P